DEPARTMENT OF COMMERCE

Patent and Trademark Office

Submission for OMB Review; Comment Request

The United States Patent and Trademark Office (USPTO) will submit to the Office of Management and Budget (OMB) for clearance the following proposal for collection of information under the provisions of the Paperwork Reduction Act (44 U.S.C. chapter 35).

Agency: United States Patent and Trademark Office (USPTO).

Title: Third-Party Submissions and Protests (formerly Green Technology Pilot Program).

Form Number(s): None.

Agency Approval Number: 0651-0062.

Type of Request: Revision of a currently approved collection.

Burden: 9,350 hours annually.

Number of Respondents: 1,225 responses per year.

Avg. Hours Per Response: The USPTO estimates that it will take the public between 7.5 and 10 hours, depending upon the complexity of the situation, to gather the necessary information, prepare the appropriate form or documents, and submit the information to the USPTO.

Needs and Uses: This information is required by 35 U.S.C. 122(c), 131 and 151 and administered by the USPTO through 37 CFR 1.99 and 1.291. This information collection is necessary so that the public may (i) make a submission in a published application and (ii) protest a pending application.

Affected Public: Individuals or households; businesses or other for-profits; not-for-profit institutions.

Frequency: On occasion.

Respondent's Obligation: Required to obtain or retain benefits.

OMB Desk Officer: Nicholas A. Fraser, e-mail:

Nicholas_A_Fraser@omb.eop.gov.

Once submitted, the request will be publicly available in electronic format through the Information Collection Review page at http://www.reginfo.gov.

Paper copies can be obtained by:

• E-mail: InformationCollection@uspto.gov. Include “0651-0062 copy request” in the subject line of the message.

• Fax: 571-273-0112, marked to the attention of Susan K. Fawcett.

• Mail: Susan K. Fawcett, Records Officer, Office of the Chief Information Officer, United States Patent and Trademark Office, P.O. Box 1450, Alexandria, VA 22313-1450.

Written comments and recommendations for the proposed information collection should be sent on or before February 28, 2011 to Nicholas A. Fraser, OMB Desk Officer, via e-mail at Nicholas_A_Fraser@omb.eop.gov or by fax to 202-395-5167, marked to the attention of Nicholas A. Fraser.

Dated: January 24, 2011.
Susan K. Fawcett,
Records Officer, USPTO, Office of the Chief Information Officer.

[FR Doc. 2011-1731 Filed 1-26-11; 8:45 am]

BILLING CODE 3510-16-P